DEPARTMENT OF TRANSPORTATION

Federal Aviation Administration

Notice of Intent To Request Revision From the Office of Management and Budget of a Currently Approved Information Collection Activity, Request for Comments; Special Federal Aviation Regulation No. 71

AGENCY: Federal Aviation Administration (FAA), DOT.

ACTION: Notice and request for comments.

SUMMARY: The FAA invites public comments about our intention to request the Office of Management and Budget (OMB) to approve a current information collection. SFAR 71 requires that part 121 and 135 air tour operators verbally brief passengers on safety, particularly related to overwater operations before each air tour flight.

DATES: Please submit comments by December 28, 2007.

FOR FURTHER INFORMATION CONTACT: Carla Mauney on (202) 267-9895, or by e-mail at: Carla.Mauney@faa.gov.

SUPPLEMENTARY INFORMATION:

Federal Aviation Administration (FAA)

Title: Special Federal Aviation Regulation No. 71.

Type of Request: Revision of an approved collection.

OMB Control Number: 2120-0620.

Forms(s): There are no forms associated with this collection.

Affected Public: A total of 38 respondents.

Frequency: The information is collected on occasion.

Estimated Average Burden per Response: Approximately 4 minutes per response.

Estimated Annual Burden Hours: An estimated 6,667 annually.

Abstract: Special Federal Aviation Regulation (SFAR) No. 71 applies to air tour operators in Hawaii. SFAR 71 requires that part 121 and 135 air tour operators verbally brief passengers on safety, particularly related to overwater operations before each air tour flight.

ADDRESSES: Send comments to the FAA at the following address: Ms. Carla Mauney, Room 712, Federal Aviation Administration, IT Enterprises Business Services Division, AES-200, 800 Independence Ave., SW., Washington, DC 20591.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC, on October 23, 2007.
Carla Mauney,
FAA Information Collection Clearance Officer, IT Enterprises Business Services Division, AES-200.

[FR Doc. 07-5359 Filed 10-26-07; 8:45 am]

BILLING CODE 4910-13-M